DEPARTMENT OF THE INTERIOR

Fish and Wildlife Service

Notice of Intent To Prepare a Comprehensive Conservation Plan and an Associated Environmental Assessment for the Turnbull National Wildlife Refuge; and Notice of Public Meetings

AGENCY: Fish and Wildlife Service, Interior.

ACTION: Notice of intent to prepare a Comprehensive Conservation Plan and associated environmental assessment; and notice of public meetings.

SUMMARY: This notice advises the public that the U.S. Fish and Wildlife Service (Service) is preparing a Comprehensive Conservation Plan (CCP) and an Environmental Assessment for Turnbull National Wildlife Refuge (Refuge), Stevens County, Washington. The Service is furnishing this notice in compliance with Service CCP policy and the National Environmental Policy Act (NEPA) and implementing regulations for the following purposes: (1) To advise other agencies and the public of our intentions; (2) to obtain suggestions and information on the issues to be addressed in the CCP; and (3) to announce public meetings for scoping. We estimate that the draft CCP and associated Environmental Assessment will be available in March of 2001.

DATES: Submit comments on or before April 3, 2000. The Service will host two public meetings, the first on February 29, 2000, and the second on March 1, 2000. See ADDRESSES for meeting locations.

ADDRESSES: Address comments and requests for more information to: Refuge Manager, Turnbull National Wildlife Refuge, 26010 South Smith Road, Cheney, Washington, 99004. Public meetings will be held on February 26, from 6 to 9 p.m., at the Cheney High School Library, 460 North 6th Street, Cheney, Washington, and March 1, from 6 to 9 p.m. at Spokane Falls Community College, Building 17, Lounges A, B, and C, at 3410 West Fort George Right Drive, Spokane, Washington.

FOR FURTHER INFORMATION CONTACT: Nancy Curry, Refuge Manager (509) 235-4723.

SUPPLEMENTARY INFORMATION:

Background Information

The Service is beginning the process of developing a 15-year management plan for Turnbull National Wildlife Refuge. The Refuge has recently completed a Habitat Management Plan, which outlines objectives and strategies for managing Refuge habitats in a way to achieve the Refuge purpose and the system mission. The Refuge also recently completed a Fire Management Plan. These two plans will be incorporated with no anticipated changes to the CCP.

The CCP will include the following topics: (1) An assessment of existing public uses on the Refuge and within the region; (2) an assessment of Refuge facilities and programs available for public use and enjoyment; (3) the biological and physical resources and their condition (to be excerpted from the Habitat Management Plan); (4) identification of the long term goals and objectives of the Refuge, consistent with the National Wildlife Refuge System mission; (5) strategies for management of public access and uses, including but not limited to the existing uses of wildlife observation and photography, environmental education and interpretation, and hiking; (6) strategies for management of other Refuge resources including cultural resources; and (7) strategies for protecting neighboring resources that affect the Refuge. In addition, the habitat and fire management objectives and strategies already described in the Habitat Management Plan and the Fire Management Plan will be incorporated into this document.

We have identified preliminary issues and opportunities to address in the CCP. Comments and concerns received will be used to identify additional issues and prepare draft alternatives. The preliminary issues fall under two categories, Public Uses and Land Protection. Brief descriptions of those issues follow.

Public Uses. The new Refuge Improvement Act specifies that hunting, among other wildlife-dependent uses, is to be considered. Turnbull Refuge has always been closed to hunting. There are concerns about whether a large enough area exists for safe big game hunting, whether the big game population is in need of harvest management, and whether or not fall waterfowl populations are large enough in this area to support a recreational hunt.

Does the public wish to see any further developments in the public use area (i.e., improved access, expansion of the public use area, added facilities, interpretive signs, and staff facilitated activities)? What effect would expanded public uses have on existing wildlife populations and distribution? Is the current sanctuary status of the Refuge a necessary benefit to wildlife in an area of rapid urban expansion?

A recent “rails-to-trails” conversion has occurred in the area and five miles of the Columbia Plateau Trail, extending from Pasco to Spokane, now runs right through the heart of the Refuge's closed area. Visitors on this trail will possibly triple Refuge visitation. The staff at the Refuge has concerns about managing this new use.

Should the Service support community demand for environmental education and interpretation on the Refuge?

Land Protection. The Refuge recently completed a Habitat Management Plan which identified the protection of water quality and quantity and the protection of native habitat and species as Refuge goals. These goals include objectives to protect Refuge water sources, water quality, and key habitats that affect Refuge resources from outside the current boundary. These goals also support the maintenance of biologically effective landscape linkages and corridors between the Refuge and other undeveloped areas of this ecoregion. Several tools exist to accomplish this, ranging from public education to voluntary conservation by neighboring landowners, partnerships and incentive programs such as the consideration of conservation easements on private land, and land acquisition from willing sellers. The CCP will explore various strategies for protecting the lands and habitats within the ecosystem.

Public Meetings

With the publication of this notice, the public is encouraged to attend public meetings and/or submit written comments for staff to consider in developing the CCP. Two public scoping meetings will be held in February. The format will be a presentation on the planning process and the Refuge followed by facilitated breakout sessions to record public interests. Dates, locations, and times follow.

(1) February 29, 2000, 6 p.m. to 9:00 p.m., Cheney High School Library, 460 N. 6th Street, Cheney, Washington, 99004. The presentation portion of the meeting will begin at 6:30 p.m.

(2) March 1, 2000, 6 p.m. to 9 p.m., Spokane Falls Community College, Building 17, Lounges A, B, and C, 3410 West Fort George Right Drive, Spokane, Washington, 99224. The presentation portion of the meeting will begin at 6:30 p.m.

Public Comments

Comments already received are on record and need not be resubmitted. All comments received from individuals on Environmental Assessments and Environmental Impact Statements become part of the official public record. Requests for such comments will be handled in accordance with the Freedom of Information Act, the Council on Environmental Quality's NEPA regulations (40CFR 1506.6(f)), and other Service and Departmental policy and procedures. When requested, the Service generally will provide comment letters with the names and addresses of the individuals who wrote the comments. However, telephone numbers of commenting individuals will not be provided in response to such requests to the extent permissible by law. Additionally, public comment letters are not required to contain the commentator's name, address, or other identifying information. Such comments may be submitted anonymously to the Service.

The environmental review of this project will be conducted in accordance with the requirements of the National Environmental Policy Act of 1969, as amended (42 U.S.C. 4321 et seq.), NEPA Regulations (40 CFR 1500-1508), other appropriate Federal laws and regulations, the National Wildlife Refuge System Improvement Act of 1997, and Service policies and procedures for compliance with those regulations.

Dated: February 24, 2000.
William B. Zimmerman,
Acting Regional Director, Region 1, Portland, Oregon.

[FR Doc. 00-4974 Filed 3-1-00; 8:45 am]

BILLING CODE 4310-55-P